DEPARTMENT OF INTERIOR

Fish and Wildlife Service

[FWS-R1-ES-2008-XXXXX; 10120-1112-0000-F2]

Oregon Parks and Recreation Department Habitat Conservation Plan for the Western Snowy Plover in Clatsop, Tillamook, Lincoln, Lane, Douglas, Coos, and Curry Counties, OR

AGENCY: Fish and Wildlife Service, Interior.

ACTION: Reopening of public comment period.

SUMMARY: This notice advises the public and other interested parties that the comment period for the Draft Environmental Impact Statement (DEIS), Habitat Conservation Plan (HCP), Incidental Take Permit (ITP) application, and Implementing Agreement (IA) regarding the Oregon Parks and Recreation Department's (OPRD) HCP for the western snowy plover is reopened for fifteen days. The original notice contains additional information and was published in the Federal Register on November 5, 2007 (72 FR 62485).

The OPRD has submitted an application to the U.S. Fish and Wildlife Service (Service) for an ITP pursuant to section 10(a)(1)(B) of the Endangered Species Act of 1973, as amended (ESA). As required by section 10(a)(2)(B) of the ESA, the OPRD has also prepared an HCP that describes the proposed actions and measures the applicant will implement to minimize and mitigate take of the threatened western snowy plover (Charadrius alexandrinus nivosus). The permit application is related to public use, recreation, beach management, and resource management activities along Oregon's coastal shores.

The Service generally allows 45 days for public comment on a DEIS which evaluates the impacts of a proposed HCP and associated ITP on the human environment. The original comment period on the DEIS was from November 5, 2007, to January 4, 2008, and extended over several Federal holidays so the Service provided a 60-day comment period. However, during that period, the Pacific Northwest coast experienced extreme weather with coastal wind damage and flooding, potentially affecting the ability of interested parties to obtain necessary documents for review. Since the area damaged by severe weather encompassed the area potentially affected by the proposed HCP, we are reopening the public comment period for 15 days following publication of this notice. Comments received will become part of the public record and will be available for review pursuant to section 10(c) of the ESA. For locations to review the documents, please see the SUPPLEMENTARY INFORMATION section below.

DATES: Comments must received from interested parties on or before March 12, 2008. Written comments may be sent by mail, facsimile, or e-mail to the addresses listed below.

ADDRESSES: All written comments and requests for information should be addressed to: Laura Todd, U.S. Fish and Wildlife Service, Newport Field Office, 2127 SE OSU Drive, Newport, OR 97365-5258; facsimile (541) 867-4551. You may submit comments by postal mail/commercial delivery or by e-mail. Submit comments by e-mail to FWIORDHCP@fws.gov. In the subject line of the e-mail include the identifier OPRD HCP EIS.

SUPPLEMENTARY INFORMATION: The documents, comments and materials received will be available for public inspection, by appointment, during normal business hours at the above address. You may view or download the draft HCP and DEIS on the Internet at http://www.fws.gov/oregonfwo/FieldOffices/Newport/ or from OPRD's Web site at http://www.egov.oregon.gov/OPRD/PLANS/osmp_hcp.shtml.

Copies of the HCP and DEIS are available at the following libraries: Astoria Public Library, 450 Tenth St., Astoria, Oregon 97103; Bandon Public Library, City Hall, Hwy 101, Bandon, Oregon 97411; Chetco Community Public Library, 405 Alder St., Brookings, Oregon 97415; Coos Bay Public Library, 525 Anderson, Coos Bay, Oregon 97420; Siuslaw Public Library, District 1460 9th St., Florence, Oregon 97439; Curry Public Library, 29775 Colvin St., Gold Beach, Oregon 97444; Manzanita Branch Library, 571 Laneda, Manzanita, Oregon 97130; Newport Public Library, 35 NW Nye St., Newport, Oregon 97365; Marilyn Potts Guin Library, Hatfield Marine Science Center, Oregon State University, 2030 Marine Science Drive, Newport, OR 97365; Port Orford Public Library, 555 W. 20th St., Port Orford, Oregon 97465; Reedsport Branch Library, 395 Winchester Ave., Reedsport, Oregon 97467; Seaside Public Library, 60 N Roosevelt Blvd., Seaside, Oregon 97138; Tillamook County Library, 1716 3rd St., Tillamook, Oregon 97141; Warrenton Community Library, 225 S Main Ave., Warrenton, Oregon 97146.

FOR FURTHER INFORMATION CONTACT: For further information or to receive copies of the documents on CD ROM, please contact Laura Todd at (541) 867-4558.

Public Comments

Comments received, including names and addresses, will become part of the administrative record and will be available for review pursuant to section 10(c) of the ESA. Anonymous comments will not be considered. All submissions from organizations or businesses, and from individuals identifying themselves as representatives or officials of organizations or businesses, are available for public inspection in their entirety.

Public Availability of Comments

Before including your address, phone number, e-mail address, or other personal identifying information in your comment, you should be aware that your entire comment—including your personal identifying information—may be made publicly available at any time. If you wish us to withhold your name and/or address, you must state this prominently at the beginning of your comment. While you can ask us in your comment to withhold your personal identifying information from public review, we cannot guarantee that we will be able to do so. We will honor your request to withhold your personal information to the extent allowable by law.

This notice is provided pursuant to section 10(c) of the ESA and Service regulations for implementing National Environmental Policy Act, as amended (40 CFR 1506.6). If we determine that all requirements are met, we will issue an ITP under section 10(a)(1)(B) of the ESA to OPRD for the take of the western snowy plover, incidental to otherwise lawful activities in accordance with the HCP, the IA, and ITP.

Dated: January 22, 2008.
David J. Wesley,
Deputy Regional Director, Fish and Wildlife Service, Portland, Oregon,

[FR Doc. 08-825 Filed 2-25-08: 8:45 am]

BILLING CODE 4310-55-M